DEPARTMENT OF HOUSING AND URBAN DEVELOPMENT

[Docket No. FR-4912-N-09]

Notice of Availability of the Record of Decision and Lead Agency Findings Statement for the World Trade Center Memorial and Redevelopment Plan in the Borough of Manhattan, City of New York, NY

AGENCY: Office of the Assistant Secretary for Community Planning and Development, HUD.

ACTION: Notice.

SUMMARY: The Department of Housing and Urban Development (HUD) announces the availability of the Record of Decision and Lead Agency Findings Statement (ROD) for the World Trade Center Memorial and Redevelopment Plan. This notice is given on behalf of the Lower Manhattan Development Corporation (LMDC). LMDC is a subsidiary of the New York State Urban Development Corporation d/b/a Empire State Development Corporation (a political subdivision and public benefit corporation of the State of New York). As the recipient of HUD Community Development Block Grant funds appropriated for the World Trade Center disaster recovery and rebuilding efforts, LMDC acts, pursuant to 42 U.S.C. 5304(g), as the responsible entity for compliance with the National Environmental Policy Act in accordance with 24 CFR 58.4. LMDC also acts under its authority as lead agency in accordance with the New York State Environmental Quality Review Act. The ROD has been prepared in cooperation with The Port Authority of New York and New Jersey. This notice is given in accordance with the Council on Environmental Quality regulations at 40 CFR parts 1500-1508. The Final Generic Environmental Impact Statement (FGEIS) for the World Trade Center Memorial and Redevelopment Plan was available for public comment from April 16, 2004 through May 24, 2004. All substantive comments received were considered during the preparation of the ROD.

FOR FURTHER INFORMATION CONTACT: Further information and a copy of the ROD may be obtained by contacting: William H. Kelley, Planning Project Manager, Lower Manhattan Development Corporation, One Liberty Plaza, 20th Floor, New York, NY 10006; telephone: (212) 962-2300; fax: (212) 962-2431; e-mail: wtcenvironmental@renewnyc.com. A copy of the ROD is also available on LMDC's Web site: http://www.RenewNYC.com in the “Planning, Design & Development” section.

SUPPLEMENTARY INFORMATION: After considering a variety of alternatives, including a no-action alternative, LMDC has selected the “Proposed Action” as defined in the FGEIS along with the possible use of the “Northern Service Option,” a refinement of the “At-Grade Loading Alternative” discussed in the FGEIS (the Selected Project). The Selected Project will provide for the construction on the Project Site of a WTC Memorial (Memorial), an interpretive museum (Memorial Center) and cultural facilities, up to approximately 10 million square feet of above-grade Class A office space with associated storage, mechanical, loading, below-grade parking, and other non-office space, up to 1 million square feet of retail space, a hotel with up to 800 rooms and up to 150,000 square feet of conference space, open space areas, and certain infrastructure improvements. The combined total of the retail and hotel facilities will not exceed 1.6 million square feet. The Selected Project will be assisted in part by HUD Community Development Block Grant funds appropriated by Congress for the World Trade Center disaster recovery and rebuilding efforts.

The Project Site includes the WTC Site and the Southern Site. The WTC Site is a parcel bounded by Liberty, Church, and Vesey Streets and Route 9A. The Southern Site comprises two adjacent blocks south of the WTC Site—one bounded by Liberty, Washington, Albany, and Greenwich Streets, and the other bounded by Liberty, Cedar, and Washington Streets and Route 9A—and portions of two streets: Liberty Street between those blocks and the WTC Site and Washington Street between Cedar and Liberty Streets. Together the sites comprise approximately 20.6 acres in Lower Manhattan.

LMDC has adopted all practical means to avoid or minimize environmental harm from the Selected Project and adopted monitoring and enforcement programs where applicable for mitigation. Monitoring procedures and enforcement mechanisms for the Selected Project will include the implementation of the Commercial Design Guidelines and Sustainable Design Guidelines, participation in the Lower Manhattan Construction Coordination Group, cooperation with the Lower Manhattan Construction Command Center, implementation of the World Trade Center Memorial and Redevelopment Plan Programmatic Agreement, implementation of traffic mitigation measures and compliance with the discharge limits and requirements of the State Pollutant Discharge Elimination System permit for the Hudson River pump station and its cooling water intake system.

Questions may be directed to the individual named in this notice under the heading FOR FURTHER INFORMATION CONTACT.

Dated: June 29, 2004.
Nelson Bregón,
General Deputy Assistant Secretary, Community Planning and Development.

[FR Doc. 04-15449 Filed 7-7-04; 8:45 am]

BILLING CODE 4210-29-P